GENERAL SERVICES ADMINISTRATION

41 CFR Parts 300-3, 301-10, 301-12, 301-30, 301-70, Chapter 301, Parts 302-1, 302-2, 302-3, 302-7, 302-11, and 303-70

[FTR Amendment 2010-07; FTR Case 2010-307; Docket 2010-0020, Sequence 1]

RIN 3090-AJ09

Federal Travel Regulation; Removal of Privately Owned Vehicle Rates; Privately Owned Automobile Mileage Reimbursement When Government Owned Automobiles Are Authorized; Miscellaneous Amendments

AGENCY: Office of Governmentwide Policy, General Services Administration (GSA).

ACTION: Final rule.

SUMMARY: GSA is amending the Federal Travel Regulation (FTR) by removing the Privately Owned Vehicle (POV) rates from Section 301-10.303. These rates will be published on a periodic basis as FTR Bulletins by the Office of Governmentwide Policy, Office of Travel, Transportation and Asset Management, and will be posted on the Internet at http://www.gsa.gov/ftr. This amendment also revises the reimbursement amount for travelers who are authorized to use a Government Owned Automobile (GOA) for temporary duty travel (TDY) and choose to use their privately owned automobile (POA) instead; updates the definition of “official station”; clarifies various provisions of Chapters 301, 302, and 303 regarding TDY and relocation travel; and makes certain grammatical corrections, where applicable.

DATES: Effective Date: This final rule is effective November 29, 2010.

Applicability Date: This final rule is applicable for official travel performed on or after December 29, 2010.

FOR FURTHER INFORMATION CONTACT: The Regulatory Secretariat (MVCB), 1275 First Street, NE., Washington, DC, 20417, (202) 501-4755, for information pertaining to status or publication schedules. For clarification of content, contact Mr. Cy Greenidge, Program Analyst, Office of Governmentwide Policy, at (202) 219-2349. Please cite FTR Amendment 2010-07; FTR case 2010-307.

SUPPLEMENTARY INFORMATION:

A. Background

Pursuant to 5 U.S.C. 5704(c), the Administrator of General Services has the responsibility to establish a mileage reimbursement rate based on the cost of travel by a Government vehicle when an employee on official business for the Government chooses to use a privately owned vehicle when a Government vehicle is authorized. This amendment, therefore, revises the reimbursement amount when travelers who are authorized to use a GOA choose to use their POA instead. This amendment also serves as notification to the public that all POV rates will be removed from the FTR and periodically published in FTR Bulletins; updates the definition of “official station”; clarifies what baggage expenses an agency may pay; clarifies that the employee is responsible for all additional expenses “that exceed the cost of the authorized method of transportation” when the employee chooses to travel via a different method of transportation than that which is authorized; requires agencies to establish policies regarding Seating Upgrade Programs in coach-class; and corrects grammatical errors.

Accordingly, this final rule amends the FTR by:

1. Section 300-3.1—Revising the term “official station”.

2. Section 301-10.6—Clarifying that the employee will be responsible for all additional expenses that exceed the cost of the authorized method of transportation when the employee chooses to travel by a method of transportation other than that authorized by the agency.

3. Section 301-10.124—Correcting a grammatical error by removing the comma after “seat choice fee” in the last sentence and adding a regulatory citation.

4. Section 301-10.301—Clarifying how to compute mileage reimbursement.

5. Section 301-10.303—Revising the information pertaining to mileage reimbursement when the use of POV is determined to be advantageous to the Government.

6. Section 301-10.304—Revising the information in the heading pertaining to allowable expenses.

7. Section 301-10.309—Removing the reference to another chapter in this section.

8. Section 301-10.310—Revising the information pertaining to reimbursement for the use of a POA when a GOA is authorized and by removing all language pertaining to being committed to using a GOA.

9. Section 301-12.1—Revising reference to “official duty station” to read “official station.”

10. Section 301-12.2—Revising subparagraph (d) in regard to checked baggage fee reimbursement.

11. Section 301-30.5—Revising reference to “official duty station” to read “official station.”

12. Section 301-70.102—Adding paragraph (k) requiring agencies to establish policies regarding Seating Upgrade Programs in coach-class.

13. Section 301-70.200—Removing paragraph (g) requiring agencies to develop policy in regard to defining a broader radius than the official station in which per diem or actual expenses will not be authorized.

14. Section 301-70.502—Revising reference to “official duty station” to read “official station.”

15. Appendix C to Chapter 301—Revising reference to “official duty station” to read “official station,” and updating the definition of official station.

16. Appendix E to Chapter 301, Sections 302-1.1, 302-2.2, 302-2.6, 302-3.312, 302-7.1, 302-11.1, and 303-70.300—Revising references to “official duty station” to read “official station.”

B. Executive Order 12866

This is not a significant regulatory action and, therefore, was not subject to review under Section 6(b) of Executive Order 12866, Regulatory Planning and Review, dated September 30, 1993. This final rule is not a major rule under 5 U.S.C. 804.

C. Regulatory Flexibility Act

This final rule will not have a significant economic impact on a substantial number of small entities within the meaning of the Regulatory Flexibility Act, 5 U.S.C. 601, et seq. This final rule is also exempt from the Regulatory Flexibility Act per 5 U.S.C. 553 (a)(2) because it applies to agency management. However, this final rule is being published to provide transparency in the promulgation of Federal policies.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Parts 300-3, 301-10, 301-12, 301-30, 301-70, Chapter 301, Parts 302-1, 302-2, 302-3, 302-7, 302-11, and 303-70

Government employees, Travel and transportation expenses, Administrative practices and procedures.

Dated: October 21, 2010.
Martha Johnson,
Administrator of General Services.

For the reasons set forth in the preamble, under 5 U.S.C. chapter 57, subchapters I, II, and III, GSA amends 41 CFR parts 300-3, 301-10, 301-12, 301-30, 301-70, Appendices C and E to Chapter 301, 302-1, 302-2, 302-3, 302-7, 302-11, and 303-70 as set forth below:

PART 300-3—GLOSSARY OF TERMS

1. The authority citation for 41 CFR part 300-3 continues to read as follows:

Authority: 5 U.S.C. 5707; 40 U.S.C 121(c); 49 U.S.C. 40118; 5 U.S.C. 5738; 5 U.S.C. 5741-5742; 20 U.S.C. 905(a); 31 U.S.C. 1353; E.O. 11609, as amended; 3 CFR, 1971-1975 Comp., p. 586, OMB Circular No. A-126, revised May 22, 1992.

2. Amend § 300-3.1 by revising the definition of “official station” to read as follows:

§ 300-3.1 What do the following terms mean?

* * * * *

Official station—An area defined by the agency that includes the location where the employee regularly performs his or her duties or an invitational traveler's home or regular place of business (see § 301-1.2). The area may be a mileage radius around a particular point, a geographic boundary, or any other definite domain, provided no part of the area is more than 50 miles from where the employee regularly performs his or her duties or from an invitational traveler's home or regular place of business. If the employee's work involves recurring travel or varies on a recurring basis, the location where the work activities of the employee's position of record are based is considered the regular place of work.

* * * * *

PART 301-10—TRANSPORTATION EXPENSES

3. The authority citation for 41 CFR part 301-10 continues to read as follows:

Authority: 5 U.S.C. 5707, 40 U.S.C. 121(c); 49 U.S.C. 40118, OMB Circular No. A-126, revised May 22, 1992.

§ 301-10.6 [Amended]

4. Amend § 301-10.6 by removing the word “selected” and adding the word “authorized” in its place whenever it appears in the section heading and the text, and by adding the words “which exceed the cost of the authorized method of transportation” after the word “incur”.

§ 301-10.124 [Amended]

5. Amend § 301-10.124 in the last sentence, by removing the comma after “seat choice fee”; and adding “(see 301-70.102(k))” after the word “policy”.

§ 301-10.301 [Amended]

6. Amend § 301-10.301 by removing the words “prescribed in § 301-10.303 of this subpart”.

7. Revise § 301-10.303 to read as follows:

§ 301-10.303 What am I reimbursed when use of POV is determined by my agency to be advantageous to the Government?

You will be reimbursed an applicable mileage rate based on the type of POV you actually use (privately owned airplane, privately owned automobile, privately owned motorcycle). These rates will be published in an FTR bulletin and are also displayed on GSA's Web site (http://www.gsa.gov/mileage).

8. Amend § 301-10.304 by revising the section heading to read as follows:

§ 301-10.304 What expenses are allowable in addition to the POV mileage rate allowances?

* * * * *

§ 301-10.309 [Amended]

9. Amend § 301-10.309 in the first sentence by removing “(see § 301-10.303)”.

10. Revise § 301-10.310 to read as follows:

§ 301-10.310 What will I be reimbursed if I am authorized to use a Government owned automobile and I use a privately owned automobile instead?

You will be reimbursed based on a constructive mileage rate limited to the cost that would be incurred for use of a Government automobile. This rate will be published in an FTR bulletin available at http://www.gsa.gov/ftr. If your agency determines the cost of providing a GOA would be higher because of unusual circumstances, it may allow reimbursement not to exceed the mileage rate for a POA. In addition, you may be reimbursed other allowable expenses as provided in § 301-10.304.

PART 301-12—MISCELLANEOUS EXPENSES

11. The authority citation for 41 CFR part 301-12 continues to read as follows:

Authority: 5 U.S.C. 5707.

§ 301-12.1 [Amended]

12. Amend § 301-12.1, in the third column of the table, in the second entry under the heading “Special expenses of foreign travel” by removing the words “official duty station” and adding the words “official station” in its place.

13. Revise § 301-12.2(d) to read as follows:

§ 301-12.2 What baggage expenses may my agency pay?

* * * * *

(d) All fees pertaining to the first checked bag. In addition, charges relating to the second and subsequent bags may be reimbursed when the agency determines those expenses necessary and in the interest of the Government (see §§ 301-70.300, 301-70.301). Travelers should verify their agency's current policies and procedures regarding excess baggage prior to traveling; and

* * * * *

PART 301-30—EMERGENCY TRAVEL

14. The authority citation for 41 CFR part 301-30 continues to read as follows:

Authority: 5 U.S.C. 5707.

§ 301-30.5 [Amended]

15. Amend § 301-30.5(a)(1) by removing the word “duty”.

PART 301-70—INTERNAL POLICY AND PROCEDURE REQUIREMENTS

16. The authority citation for 41 CFR part 301-70 continues to read as follows:

Authority: 5 U.S.C. 5707; 40 U.S.C. 121(c); Sec 2, Pub. L. 105-264, 112 Stat. 2350 (5 U.S.C. 5701, note), OMB Circular No. A-126, revised May 22, 1992, and OMB Circular No. A-123, Appendix B, revised January 15, 2009.

17. Amend § 301-70.102 by removing the word “and” at the end of paragraph (i); removing the period at the end of paragraph (j) and adding “; and” in its place; and adding paragraph (k) to read as follows:

§ 301-70.102 What governing policies must we establish for authorization and payment of transportation expenses?

* * * * *

(k) Develop and publish internal guidance regarding Seating Upgrade Programs in coach-class (see § 301-10.124).

§ 301-70.200 [Amended]

18. Amend § 301-70.200-

a. In paragraph (f) by adding the word “and” after “case;”;

b. By removing paragraph (g); and

c. By redesignating paragraph (h) as paragraph (g).

§ 301-70.502 [Amended]

19. Amend § 301-70.502(a) by replacing the words “official duty station” with the words “official station” wherever it appears.

Appendix C to Chapter 301 [Amended]

20. Amend Appendix C to Chapter 301, in the first table, under the heading “Traveler Identification”—

a. By removing the entry “Official Duty Station” and adding the entry “Official Station” in its place in the first column under the heading “Group name”, and in the third column under the heading “Description” wherever it appears.

b. In the third column of the table under the heading “Description”, by removing the entry “Either the corporate limits of city/town or the reservation, station, established area where stationed” and adding “The location where the employee regularly performs his or her duties or an invitational traveler's home or regular place of business. If the employee's work involves recurring travel or varies on a recurring basis, the location where the work activities of the employee's position of record are based is considered the employee's official station” in its place.

Appendix E to Chapter 301 [Amended]

21. Amend Appendix E to Chapter 301, under the heading “Food and Drink”, in the first bulleted entry, by removing the words “official duty stations” and adding the words “official stations” in its place.

PART 302-1—GENERAL RULES

22. The authority citation for 41 CFR part 302-1 continues to read as follows:

Authority: 5 U.S.C. 5738; 20 U.S.C. 905(a).

§ 302-1.1 [Amended]

23. Amend § 302-1.1(a) by removing the words “official duty station” and adding the words “official station” in its place.

PART 302-2—EMPLOYEES ELIGIBILITY REQUIREMENTS

24. The authority citation for 41 CFR part 302-2 continues to read as follows:

Authority: 5 U.S.C. 5738; 20 U.S.C. 905(a).

§ 302-2.2 [Amended]

25. Amend § 302-2.2 by removing the words “official duty station” and adding the words “official station” in its place wherever it appears in the section heading and the text.

§ 302-2.6 [Amended]

26. Amend § 302-2.6 by removing from the section heading the words “official duty station” and adding the words “official station” in its place.

PART 302-3—RELOCATION ALLOWANCE BY SPECIFIC TYPE

27. The authority citation for 41 CFR part 302-3 continues to read as follows:

Authority: 5 U.S.C. 5738; 20 U.S.C. 905(a).

§ 302-3.312 [Amended]

28. Amend § 302-3.312 by removing from the section heading the words “official duty station” and adding the words “official station” in its place.

PART 302-7—TRANSPORTATION AND TEMPORARY STORAGE OF HOUSEHOLD GOODS AND PROFESSIONAL BOOKS, PAPERS, AND EQUIPMENT (PBP&E)

29. The authority citation for 41 CFR part 302-7 continues to read as follows:

Authority: 5 U.S.C. 5738; 20 U.S.C. 905(a); E.O 11609, 36 FR 13747, 3 CFR, 1971-1973 Comp. p. 586.

§ 302-7.1 [Amended]

30. Amend § 302-7.1—

a. In paragraph (a) by removing the words “official duty stations” and adding the words “official stations” in its place.

b. In paragraph (b) by removing the words “official duty station” and adding the words “official station” in its place.

PART 302-11—ALLOWANCES FOR EXPENSES INCURRED IN CONNECTION WITH RESIDENCE TRANSACTIONS

31. The authority citation for 41 CFR part 302-11 continues to read as follows:

Authority: 5 U.S.C. 5738 and 20 U.S.C. 905(c).

§ 302-11.1 [Amended]

32. Amend § 302-11.1(a) by removing the words “official duty station” and adding the words “official station” in its place wherever it appears.

PART 303-70—AGENCY REQUIREMENTS FOR PAYMENT OF EXPENSES CONNECTED WITH THE DEATH OF CERTAIN EMPLOYEES

33. The authority citation for 41 CFR part 303-70 continues to read as follows:

Authority: 5 U.S.C. 5721-5738; 5741-5742; E.O. 11609, 3 CFR, 1971-1975 Comp., p. 586.

§ 303-70.300 [Amended]

34. Amend § 303-70.300 by removing the words “official duty station” and adding the words “official station” in its place.

[FR Doc. 2010-29730 Filed 11-26-10; 8:45 am]

BILLING CODE 6820-14-P